DEPARTMENT OF HOUSING AND URBAN DEVELOPMENT

[Docket No. FR-5932-N-04]

Agenda and Notice of Public Meetings of the Moving to Work Research Advisory Committee

AGENCY: Office of the Assistant Secretary for Public and Indian Housing, and Office of the Assistant Secretary for Policy Development and Research, HUD.

ACTION: Notice of a federal advisory committee meeting.

SUMMARY: This notice sets forth the schedule and proposed agenda of two scheduled meetings of the Moving to Work (MTW) Research Advisory Committee (Committee). The Committee meetings will be held via conference call on Tuesday, July 26, 2016, and Thursday, July 28. The meeting is open to the public and is accessible to individuals with disabilities. Pursuant to 41 CFR 102-3.150, notice for the July 26, 2016, meeting is being published fewer than 15 calendar days prior to the meeting as exceptional circumstances exist. It is imperative that the Committee hold its July 26, 2016, meeting to accommodate the scheduling priorities of key participants so that they may begin the work of the Committee. Given HUD's need for the Committee's advice, and the scheduling difficulties of selecting an alternative date, the agency deems it important for the advisory committee to meet on the July 26, 2016.

DATES: The teleconference meetings will be held on July 26, 2016, from 1:00 p.m. to 4:00 p.m. Eastern Daylight Time (EDT) and July 28, 2016 from 1:00 p.m. to 4:00 p.m. (EDT).

FOR FURTHER INFORMATION CONTACT: Laurel Davis, Department of Housing and Urban Development, Office of Public and Indian Housing, 451 7th Street SW., Room 4116, Washington, DC 20410, telephone (202) 402-5759 (this is not a toll-free number). Persons who have difficulty hearing or speaking may access this number via TTY by calling the toll-free Federal Relay Service at (800) 877-8339 or can email: MTWAdvisoryCommittee@hud.gov.

SUPPLEMENTARY INFORMATION: Notice of this meeting is provided in accordance with the Federal Advisory Committee Act, 5. U.S.C. App. 10(a)(2). The Moving to Work (MTW) Research Advisory Committee (Committee) was established on April 16, 2016, to advise HUD on specific policy proposals and methods of research and evaluation related to the expansion of the MTW demonstration to an additional 100 high-performing Public Housing Authorities (PHAs). See 81 FR 244630.

HUD is convening two meetings to discuss potential policies that HUD may require new MTW PHAs to test as a condition of admittance to the program. HUD will convene the first meeting on Tuesday, July 26, 2016, via teleconference from 1:00 p.m. to 4:00 p.m. (EDT). A second meeting of the Committee will convene on Thursday, July 28, 2016, via teleconference from 1:00 p.m. to 4:00 p.m. (EST). The agendas for the meetings are as follows:

Tuesday, July 26, 2016 at 1-4 p.m. EST

I. Welcome

II. Purpose and Structure of this Committee

III. Introduction of Members

IV. Meeting Management

V. Goal of the July 26th and July 28th Conference Calls

a. Develop Guiding Principles for Discussion

VI. BREAK

VII. Discussion of Potential Policy Interventions—MTW Statutory Objective #3: Increasing Housing Choices for Low-Income Families

VIII. TIME PERMITTING: Begin Discussion of Potential Policy Interventions—MTW Statutory Objective #1: Reduce Cost and Achieve Greater Cost-Effectiveness in Federal Expenditures

IX. Public Input

Thursday, July 28, 2016 at 1-4 p.m. EST

I. Welcome

II. Review of July 26th Conference Call

a. Goal

b. Guiding Principles

c. Discussion of Policies Under MTW Statutory Objective #3: Increasing Housing Choices for Low-Income Families

III. Discussion of Potential Policy Interventions—MTW Statutory Objective #1: Reduce Cost and Achieve Greater Cost-Effectiveness in Federal Expenditures

IV. BREAK

V. Discussion of Potential Policy Interventions—MTW Statutory Objective #2: Give Incentives to Families with Children Whose Heads of Household are Either Working, Seeking Work, or Participating in Job Training, Educational, or Other Programs that Assist in Obtaining Employment and Becoming Economically Self-Sufficient

VI. Public Input

VII. Next Steps

The public is invited to call-in to both meetings by using the following toll-free number in the United States: (800) 230-1766, or the following International number for those outside the United States: (612) 288-0329. Please be advised that the operator will ask callers to provide their names and their organizational affiliations (if any) prior to placing callers into the conference line. Callers can expect to incur charges for calls they initiate over wireless lines and for international calls, and HUD will not refund any incurred charges. Callers will incur no charge for calls they initiate over land-line connections to the toll-free phone number. Persons with hearing impairments may also follow the discussion by first calling the Federal Relay Service (FRS): (800) 977-8339 and providing the FRS operator with the conference call toll-free number: (800) 230-1766.

With advance registration, members of the public will have an opportunity to provide feedback during the calls. This total amount of time for such feedback will be limited to ensure pertinent Committee business is completed, and comments will be taken on a first-come first-served basis by HUD. If the number of registered commenters exceeds the available time, HUD may ask for the submission of comments via email. In order to pre-register to provide comments, please visit the MTW Demonstration's expansion Web page at: http://portal.hud.gov/hudportal/HUD?src=/program_offices/public_indian_housing/programs/ph/mtw/expansion.

Records and documents discussed during the meeting, as well as other information about the work of this Committee, will be available for public viewing as they become available at: http://www.facadatabase.gov/committee/committee.aspx?t=c&cid=2570&aid=77 by clicking on the “Committee Meetings” link. These materials will also be available on the MTW Demonstration's expansion Web page at: http://portal.hud.gov/hudportal/HUD?src=/program_offices/public_indian_housing/programs/ph/mtw/expansion. Records generated from this meeting may also be inspected and reproduced at the Department of Housing and Urban Development Headquarters in Washington, DC, as they become available, both before and after the meeting.

Questions concerning this notice should be directed to Laurel Davis, DFO, Office of Public and Indian Housing, Department of Housing and Urban Development at MTWAdvisory Committee@hud.gov.

Dated: July 7, 2016.
Jemine A. Bryon,
General Deputy Assistant Secretary for Public and Indian Housing.
Lynn Ross,
Deputy Assistant Secretary for Policy Development.

[FR Doc. 2016-16444 Filed 7-11-16; 8:45 am]

BILLING CODE 4210-67-P